DEPARTMENT OF ENERGY

Federal Energy Regulatory Commission

Notice of Attendance at Nepool Meetings

February 17, 2010.

The Federal Energy Regulatory Commission hereby gives notice that members of the Commission and Commission staff may attend the following upcoming NEPOOL meetings:

NEPOOL Participants Committee

• February 5 (Boston, MA).

• March 5 (Location TBD).

• April 9 (Location TBD).

• May 7 (Location TBD).

• June 4 (Location TBD).

• June 21-23 (Location TBD).

• August 6 (Location TBD).

• September 17 (Location TBD).

NEPOOL Markets Committee Meeting

• February 9-10 (Marlborough, MA).

• March 9-10 (Marlborough, MA).

• April 13-14 (Marlborough, MA).

• May 11-12 (Marlborough, MA).

• June 8-9 (Marlborough, MA).

• July 12-14 (Location TBD).

• August 10-11 (Marlborough, MA).

• September 14-15 (Marlborough, MA).

For additional meeting information, see http://www.iso-ne.com/committees/comm_wkgrps/index.html.

The discussions at each of the meetings described above may address matters at issue in the following proceedings:

Docket No. ER07-397, ISO New England Inc. and the New England Power Pool Participants Committee

Docket No. ER08-633, ISO New England Inc.

Docket No. ER08-830, ISO New England Inc.

Docket No. ER08-1209, ISO New England Inc. and the New England Power Pool Participants Committee

Docket No. EL09-3, Ashburnham Municipal Light Plant, et al. v. Berkshire Power Company, LLC, and ISO New England Inc.

Docket No. EL09-47, Richard Blumenthal, Attorney General for the State of Connecticut v. ISO New England Inc., et al.

Docket No. EL09-48, The Connecticut Department of Public Utility Control and the Connecticut Office of Consumer Counsel v. ISO New England Inc., et al.

Docket No. ER09-1051, ISO New England Inc. and the New England Power Pool Participants

Docket No. ER09-1144, ISO New England Inc. and the New England Power Pool Participants Committee

Docket No. ER09-1424, ISO New England Inc.

Docket No. ER09-1546, ISO New England Inc. and the New England Power Pool Participants Committee

Docket No. ER10-154, ISO New England Inc.

Docket No. ER10-186, ISO New England Inc.

Docket No. ER10-438, ISO New England Inc. and the New England Power Pool Participants Committee

For more information, contact Michael Isimbabi, Office of Energy Market Regulation, Federal Energy Regulatory Commission at (202) 502-6539 or Michael.isimbabi@ferc.gov.

Kimberly D. Bose,
Secretary.

[FR Doc. 2010-3623 Filed 2-23-10; 8:45 am]

BILLING CODE 6717-01-P